SECURITIES AND EXCHANGE COMMISSION

[File No. 500-1]

In the Matter of Prospect Ventures, Inc.; Order of Suspension of Trading

June 6, 2014.

It appears to the Securities and Exchange Commission that there is a lack of current and accurate information concerning the securities of Prospect Ventures, Inc. (“Prospect”) because of questions regarding the accuracy of assertions by Prospect to investors in public filings concerning, among other things, the company's beneficial ownership, assets, and operations. Prospect is a Nevada corporation based in Medellin, Colombia. Prospect's securities are quoted on OTC Link (formerly “Pink Sheets”) operated by OTC Markets Group Inc., under the symbol IVAP.

The Commission is of the opinion that the public interest and the protection of investors require a suspension of trading in the securities of the above-listed company.

Therefore, it is ordered, pursuant to Section 12(k) of the Securities Exchange Act of 1934, that trading in the securities of the above-listed company is suspended for the period from 9:30 a.m. EDT on June 6, 2014 through 11:59 p.m. EDT on June 19, 2014.

By the Commission.
Jill M. Peterson,
Assistant Secretary.

[FR Doc. 2014-13574 Filed 6-6-14; 11:15 am]

BILLING CODE 8011-01-P